DEPARTMENT OF COMMERCE

National Oceanic and Atmospheric Administration

[RTID 0648-XA032]

North Pacific Fishery Management Council; Public Meeting

AGENCY: National Marine Fisheries Service (NMFS), National Oceanic and Atmospheric Administration (NOAA), Commerce.

ACTION: Notice of public meeting.

SUMMARY: The North Pacific Fishery Management Council (Council) Cook Inlet Salmon Committee will meet on February 25, 2020 through February 26, 2020.

DATES: The meeting will be held on Tuesday, February 25, 2020 through Wednesday, February 26, 2020, from 9 a.m. to 5 p.m. Alaska Standard Time.

ADDRESSES: The meeting will be held in the Birch/Willow room at the Anchorage Hilton Hotel, 500 W 3rd Ave, Anchorage, AK 99501. Teleconference number is (907) 271-2896.

Council address: North Pacific Fishery Management Council, 605 W 4th Ave., Suite 306, Anchorage, AK 99501-2252; telephone: (907) 271-2809.

FOR FURTHER INFORMATION CONTACT: Jim Armstrong, Council staff; telephone: (907) 271-2809.

SUPPLEMENTARY INFORMATION:

Agenda

Tuesday, February 25, 2020 Through Wednesday, February 26, 2020

The agenda for the meeting will include a general overview of the process for considering impacts to Cook Inlet beluga whales, Committee review of draft background information for ongoing analyses of alternatives, Committee review of draft management measures under existing Alternatives 2 and 3, Committee member proposals for additional management measures, and other issues, as necessary. The Agenda is subject to change, and the latest version will be posted at https://meetings.npfmc.org/Meeting/Details/1289 prior to the meeting, along with meeting materials.

Public Comment

Public comment letters will be accepted and should be submitted either electronically at: meetings.npfmc.org or through the mail: North Pacific Fishery Management Council, 1007 West Third, Suite 400, Anchorage, AK 99501-2252.

Special Accommodations

The meeting is physically accessible to people with disabilities. Requests for sign language interpretation or other auxiliary aids should be directed to Shannon Gleason at (907) 271-2809 at least 7 working days prior to the meeting date.

Authority: 16 U.S.C. 1801 et seq.

Dated: February 4, 2020.
Tracey L. Thompson,
Acting Deputy Director, Office of Sustainable Fisheries, National Marine Fisheries Service.

[FR Doc. 2020-02434 Filed 2-6-20; 8:45 am]

BILLING CODE 3510-22-P